DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Fernando De Leon on behalf of Mr. Robert Steele to NHTSA's Office of Defects Investigation (ODI), dated September 9, 2003, under 49 U.S.C. 30162, requesting that the agency commence a proceeding to determine the existence of a defect related to motor vehicle safety with respect to the front seat back performance on model year (MY) 1994 through 1997 Dodge Ram pickup trucks in low-speed, rear-end crashes. After a review of the petition and other information, NHTSA has concluded that further expenditure of the agency's investigative resources on the issues raised by the petition does not appear to be warranted. The agency accordingly has denied the petition. The petition is hereinafter identified as DP03-006.

FOR FURTHER INFORMATION CONTACT: Mr. Christopher J. Wiacek, Defects Assessment Division, Office of Defects Investigation, NHTSA, 400 Seventh Street, SW, Washington, DC 20590. Telephone: (202) 366-7042.

SUPPLEMENTARY INFORMATION: By letter dated September 9, 2003, Mr. Fernando De Leon, on behalf of Mr. Robert Steele, submitted a petition requesting that the agency investigate the performance of the front seat back on MY 1994 through 1997 Dodge Ram pickup trucks (subject vehicles) in low-speed, rear-end crashes. The petitioner alleges that the front seat back can collapse rearward in a rear impact crash as a result of the design and improper manufacturing of the upper outer plate within the recliner mechanism causing the front occupant to sustain injury. The petitioner, an owner of a 1996 Dodge Ram, has not experienced this issue.

ODI requested information from DaimlerChrysler Corporation (DaimlerChrysler), pertaining to the front seatback performance on MY 1994 through 1997 Dodge Ram pickup trucks. The subject vehicles were redesigned for MY 1994 to use the T-300 split bench front seat. According to DaimlerChrysler, beginning with the MY 1998 Dodge Ram pickups, the front seats were significantly revised for the Club Cab model, but the standard cab pickup continued to use T-300 seat recliner design until MY 2002. However, in the standard cab vehicles, the relative position of the seat back to the back of the cab does not permit the seat to collapse completely rearward as in the Club Cab. DaimlerChrysler has produced for sale in the United States 1,193,279 MY 1994 through 1997 Dodge Ram pickups, including 188,097 MY 1994, 267,241 MY 1995, 362,880 MY 1996 and 375,061 MY 1997 vehicles.

ODI has identified a total of 30 incidents where it is alleged the seat back collapsed rearward in a rear impact crash. DaimlerChrysler submitted information about 29 incidents and ODI had received four reports, of which one was unique to ODI. All but two of the incidents occurred in vehicles with the Club Cab body style.

There have been 23 injuries and two deaths allegedly due to the collapse of the front seat back in a crash. The severity of the injuries ranged from minor cuts, bruises and sprains to severe head trauma allegedly due to the occupant striking the rear of the cab after the seat collapsed. There were six reported incidents where there was serious head trauma to the occupant that allegedly resulted in two fatalities. The two fatal incidents involved impacts by large vehicles, which might have contributed to the severity of the injuries.

The petition alleged that the seat backs collapsed during low-speed impacts. The data gathered by ODI show that one complaint had alleged that the subject vehicle was struck at a speed of 4 to 5 miles per hour (mph) and another at 8 mph while the subject vehicle was at rest. In the other few incidents where the striking speed was stated in the complaint, the speed ranged from 30 to 70 mph. For a majority of the complaints the striking speed was not stated. ODI was unable to determine the severity of the impact for the vehicles that were involved in crashes when photographs were available for review because of the propensity of the struck subject vehicle to roll forward after the impact, thus reducing the crush damage as the driver's foot tends to come off the brake pedal when struck from behind. Though crush damage might appear to be insignificant, this is not necessarily indicative of a low impact speed.

ODI reviewed the complaints it received with respect to comparable full-size pickup trucks built by General Motors (GM) and Ford Motor Company (Ford) in MY 1994 through 1997 in which it is stated the front seat collapsed in a crash. ODI has received one complaint on a GM pickup and none on a Ford, compared with four on the subject vehicles.

ODI also examined reports on the subject vehicles where it is alleged that the seat back collapsed other than in a rear impact. ODI identified a total of 51 such complaints. Of the 51 reports, 14 stated that the seat back collapsed while the vehicle was being driven and one stated that the seat back collapse caused the driver to hit a snow bank. The data show that the complaint count by calendar year for seat backs collapsing without a rear impact crash is steady and does not appear to be increasing with time.

There were approximately 1,300 warranty claims filed on the subject vehicle where the failure was coded as “11-Broken Cracked” and the part description was coded as “recliner.” This data is not very helpful because the claims pertain to the front seat recliner as a system and may not specifically relate to the alleged defect.

There was an Engineering Analysis, EA01-019, into an alleged defect with respect to the recliners in 200,000 MY 1992 through 1995 GM full size sport utility vehicles. ODI received reports of 103 incidents in which the recliner bolt allegedly failed, resulting in three crashes and nine injuries. At the closure of that investigation a recall was not ordered by the agency. The failure rate of 51 per 100,000 vehicles for seat back collapse without a rear impact in EA01-019 is significantly greater than the 4 per 100,000 for the subject vehicles.

DaimlerChrysler has advised ODI that Federal Motor Vehicle Safety Standard (FMVSS) No. 207, “Seating Systems,” compliance testing was conducted on the T-300 seats used on the subject vehicles. For all model years, the seats used in the Dodge Ram passed the Federal requirements for seat back strength. NHTSA's Office of Vehicle Safety Compliance did not conduct testing on the subject vehicles. DaimlerChrysler did conduct an FMVSS No. 301, “Fuel System Integrity,” rear impact test with instrumented anthropomorphic dummies in both front seat positions at 48 km/h on a Club Cab Dodge Ram. During the test, both front seats collapsed rearward. DaimlerChrysler has stated that this was part of the designed energy absorption capabilities of the T-300 seating system. The head injury criteria or HIC for the driver dummy was 116 and for the passenger dummy was 120. This is well below the HIC value of 1,000 which is the NHTSA benchmark for measuring serious head injury in other safety standards.

In view of the foregoing, it is unlikely that NHTSA would issue an order for the notification and remedy of the alleged defect as defined by the petitioner at the conclusion of the investigation requested in the petition. Therefore, in view of the need to allocate and prioritize NHTSA's limited resources to best accomplish the agency's safety mission, the petition is denied.

Authority: 49 U.S.C. 30162(d); delegations of authority at CFR 1.50 and 501.8.

Issued on: March 23, 2004.
Kenneth N. Weinstein,
Associate Administrator for Enforcement.

[FR Doc. 04-6902 Filed 3-26-04; 8:45 am]

BILLING CODE 4910-59-P